DEPARTMENT OF ENERGY

Federal Energy Regulatory Commission

Combined Notice of Filings

Take notice that the commission received the following Accounting Request filings:

Filings Instituting Proceedings

Docket Numbers: AC25-56-000.

Applicants: Viking Gas Transmission Company.

Description: Viking Gas Transmission Company submits request for approval of certain adjustments to its deferred tax balances due to 100 percent acquisition of Viking Gas Transmission Company by DTM Interstate Transportation LLC, effective 12/31/2024.

Filed Date: 3/3/25.

Accession Number: 20250303-5292.

Comment Date: 5 p.m. ET 3/24/25.

Take notice that the Commission received the following Natural Gas Pipeline Rate and Refund Report filings:

Docket Numbers: RP25-692-000.

Applicants: Cimarron River Pipeline, LLC.

Description: § 4(d) Rate Filing: 2025 Summer Fuel Reimbursement filing to be effective 4/1/2025.

Filed Date: 3/5/25.

Accession Number: 20250305-5251.

Comment Date: 5 p.m. ET 3/17/25.

Docket Numbers: RP25-693-000.

Applicants: Gulf Shore Energy Partners, LP.

Description: § 4(d) Rate Filing: Gulf Shore Limited Section 4 filing to be effective 4/5/2025.

Filed Date: 3/5/25.

Accession Number: 20250305-5263.

Comment Date: 5 p.m. ET 3/17/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP25-344-001.

Applicants: ANR Pipeline Company.

Description: Compliance filing: Probability of Default Compliance to be effective 2/6/2025.

Filed Date: 3/6/25.

Accession Number: 20250306-5027.

Comment Date: 5 p.m. ET 3/18/25.

Docket Numbers: RP25-589-001.

Applicants: Adelphia Gateway, LLC.

Description: Compliance filing: Adelphia Gateway Amended Penalty Crediting Report 2025 to be effective N/A.

Filed Date: 3/6/25.

Accession Number: 20250306-5044.

Comment Date: 5 p.m. ET 3/18/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 6, 2025.
Carlos D. Clay,
Deputy Secretary.

[FR Doc. 2025-03911 Filed 3-11-25; 8:45 am]

BILLING CODE 6717-01-P